DEPARTMENT OF HOMELAND SECURITY

Federal Emergency Management Agency

[Docket ID FEMA-2018-0002; Internal Agency Docket No. FEMA-B-1822]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with the Code of Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: May 1, 2018.
David I. Maurstad,
Deputy Associate Administrator for Insurance and Mitigation (Acting), Department of Homeland Security, Federal Emergency Management Agency.

State and county | Location and case No. | Chief executive officer of community | Community map repository | Online location of letter of map revision | Date of modification | Community No.
Arizona:
Maricopa | City of Glendale (17-09-2397P) | The Honorable Jerry Weiers, Mayor, City of Glendale, 5850 West Glendale Avenue, Glendale, AZ 85301 | City Hall, 5850 West Glendale Avenue, Glendale, AZ 85301 | https://msc.fema.gov/portal/advanceSearch | Jul. 20, 2018 | 040045
Maricopa | City of Phoenix (17-09-2397P) | The Honorable Greg Stanton, Mayor, City of Phoenix, City Hall, 200 West Washington Street, Phoenix, AZ 85003 | Street Transportation Department, 200 West Washington Street, 5th Floor, Phoenix, AZ 85003 | https://msc.fema.gov/portal/advanceSearch | Jul. 20, 2018 | 040051
Maricopa | Unincorporated Areas of Maricopa County (17-09-2397P) | The Honorable Steve Chucri, Chairman, Board of Supervisors, Maricopa County, 301 West Jefferson Street, 10th Floor, Phoenix, AZ 85003 | Flood Control District of Maricopa County, 2801 West Durango Street, Phoenix, AZ 85009 | https://msc.fema.gov/portal/advanceSearch | Jul. 20, 2018 | 040037
Pinal | City of Casa Grande (17-09-0587P) | The Honorable Craig McFarland, Mayor, City of Casa Grande, 510 East Florence Boulevard, Casa Grande, AZ 85122 | Department of Planning and Development, 510 East Florence Boulevard, Casa Grande, AZ 85122 | https://msc.fema.gov/portal/advanceSearch | Jul. 13, 2018 | 040080
Pinal | City of Eloy (17-09-0587P) | The Honorable Joel G. Belloc, Mayor, City of Eloy, City Hall, 628 North Main Street, Eloy, AZ 85131 | Department of Public Works, 1137 West Houser Road, Eloy, AZ 85131 | https://msc.fema.gov/portal/advanceSearch | Jul. 13, 2018 | 040083
Pinal | Unincorporated Areas of Pinal County (17-09-0587P) | The Honorable Todd House, Chairman, Board of Supervisors, Pinal County, P.O. Box 827, Florence, AZ 85132 | Pinal County Public Works Department, 31 North Pinal Street, Building F, Florence, AZ 85132 | https://msc.fema.gov/portal/advanceSearch | Jul. 13, 2018 | 040077
California:
Monterey | City of Salinas (18-09-0131P) | The Honorable Joe Gunter, Mayor, City of Salinas, 200 Lincoln Avenue, Salinas, CA 93901 | Department of Public Works, 200 Lincoln Avenue, Salinas, CA 93901 | https://msc.fema.gov/portal/advanceSearch | Jul. 23, 2018 | 060202
Orange | City of Lake Forest (17-09-1011P) | The Honorable Scott Voigts, Mayor, City of Lake Forest, 25550 Commercentre Drive, Suite 100, Lake Forest, CA 92630 | City Hall, 25550 Commercentre Drive, Suite 100, Lake Forest, CA 92630 | https://msc.fema.gov/portal/advanceSearch | Jul. 16, 2018 | 060759
San Joaquin | City of Lathrop (18-09-0365P) | The Honorable Sonny Dhaliwal, Mayor, City of Lathrop, 390 Town Center Drive, Lathrop, CA 95330 | City Hall, 390 Town Center Drive, Lathrop, CA 95330 | https://msc.fema.gov/portal/advanceSearch | Jul. 9, 2018 | 060738
San Joaquin | City of Stockton (17-09-0527P) | The Honorable Michael D. Tubbs, Mayor, City of Stockton, 425 North El Dorado Street, Stockton, CA 95202 | Community Development Department, 345 North El Dorado Street, Stockton, CA 95202 | https://msc.fema.gov/portal/advanceSearch | Jul. 18, 2018 | 060302
San Joaquin | Unincorporated Areas of San Joaquin County (17-09-0527P) | The Honorable Chuck Winn, Chairman, Board of Supervisors, San Joaquin County, 44 North San Joaquin Street, Suite 627, Stockton, CA 95202 | San Joaquin County, Stockton Courthouse, 180 East Weber Avenue, Stockton, CA 95202 | https://msc.fema.gov/portal/advanceSearch | Jul. 18, 2018 | 060299
Sonoma | City of Rohnert Park (17-09-1348P) | The Honorable Pam Stafford, Mayor, City of Rohnert Park, 130 Avram Avenue, Rohnert Park, CA 94928 | City Hall, 130 Avram Avenue, Rohnert Park, CA 94928 | https://msc.fema.gov/portal/advanceSearch | Jul. 16, 2018 | 060380
Florida:
Nassau | Unincorporated Areas of Nassau County (18-04-1755P) | The Honorable Pat Edwards, Chairman, Board of Commissioners, Nassau County, 96135 Nassau Place, Suite One, Yulee, FL 32097 | Nassau County Building Department, 96161 Nassau Place, Yulee, FL 32097 | https://msc.fema.gov/portal/advanceSearch | Jul. 13, 2018 | 120170
Minnesota:
Hennepin | City of Minnetrista (16-05-6914P) | The Honorable Lisa Whalen, Mayor, City of Minnetrista, 7701 County Road, 110 West, Minnetrista, MN 55364 | City Hall, 7701 County Road, 110 West, Minnetrista, MN 55364 | https://msc.fema.gov/portal/advanceSearch | Jul. 9, 2018 | 270175
Hennepin | City of Orono (16-05-6913P) | The Honorable Dennis Walsh, Mayor, City of Orono, P.O. Box 53, Crystal Bay, MN 55323 | City Hall, 2750 Kelley Parkway, Orono, MN 55356 | https://msc.fema.gov/portal/advanceSearch | Jul. 9, 2018 | 270178
Hennepin | City of St. Bonifacius (16-05-6914P) | The Honorable Shawn Ruotsinoja, Mayor, City of St. Bonifacius, 8535 Kennedy Memorial Drive, St. Bonifacius, MN 55375 | City Hall, 8535 Kennedy Memorial Drive, St. Bonifacius, MN 55375 | https://msc.fema.gov/portal/advanceSearch | Jul. 9, 2018 | 270183
Scott | City of Prior Lake (17-05-5335P) | The Honorable Kirt Briggs, Mayor, City of Prior Lake, 4646 Dakota Street Southeast, Prior Lake, MN 55372 | City Hall, 4646 Dakota Street Southeast, Prior Lake, MN 55372 | https://msc.fema.gov/portal/advanceSearch | Jul. 9, 2018 | 270432
Nebraska:
Washington | City of Blair (17-07-2615P) | The Honorable James Realph, Mayor, City of Blair, 2532 College Drive, Blair, NE 68008 | City Hall, 218 South 16th Street, Blair, NE 68008 | https://msc.fema.gov/portal/advanceSearch | Jul. 20, 2018 | 310228
Nevada:
Clark | Unincorporated Areas of Clark County (18-09-0452P) | The Honorable Steve Sisolak, Chairman, Board of Supervisors, Clark County, 500 South Grand Central Parkway, 6th Floor, Las Vegas, NV 89106 | Clark County Office of the Director of Public Works, 500 South Grand Central Parkway, Las Vegas, NV 89155 | https://msc.fema.gov/portal/advanceSearch | Jul. 10, 2018 | 320003
Washoe | Unincorporated Areas of Washoe County (17-09-1979P) | The Honorable Marsha Berkbigler, Chair, Board of Commissioners, Washoe County, 1001 East 9th Street, Reno, NV 89512 | Washoe County Administration Building, Department of Public Works, 1001 East 9th Street, Reno, NV 89512 | https://msc.fema.gov/portal/advanceSearch | Jul. 6, 2018 | 320019
Ohio:
Hamilton | City of Harrison (17-05-5193P) | The Honorable William Neyer, Mayor, City of Harrison, P.O. Box 286, Harrison, OH 45030 | Community Center, 300 George Street, Harrison, OH 45030 | https://msc.fema.gov/portal/advanceSearch | Jul. 10, 2018 | 390220
Wisconsin:
Waukesha | Unincorporated Areas of Waukesha County (18-05-2348X) | The Honorable Paul L. Decker, Waukesha County Board Chair, County Courthouse, 515 West Moreland Boulevard, Room C170, Waukesha, WI 53188 | Waukesha County Administrator Center, 515 West Moreland Boulevard, Waukesha, WI 53188 | https://msc.fema.gov/portal/advanceSearch | Jul. 16, 2018 | 550476

[FR Doc. 2018-09698 Filed 5-7-18; 8:45 am]

BILLING CODE 9110-12-P